DEPARTMENT OF JUSTICE

Notice of Public Comment Period for Proposed Consent Decree and Settlement Agreement Under the Clean Air Act, RCRA and CERCLA

Under 28 CFR 50.7, notice is hereby given that, for a period of 30 days, the United States will receive public comments on a proposed Consent Decree and Settlement Agreement (“Decree”) in In Re: G-I Holdings, Inc., et al., (Bankr. Case Nos. 01-30135 (RG) and 01-38790 (RG) and United States v. G-I Holdings, Inc. (Adversary Proceeding No. 08-2531 (RG), which was lodged with the U.S. Bankruptcy Court for the District of New Jersey on July 2, 2009. The United States, on behalf of U.S. Environmental Protection Agency (“EPA”), U.S. Department of the Interior (“DOI”), the U.S. National Oceanic and Atmospheric Administration (“NOAA”), the State of Vermont, and the debtor, G-I Holdings, Inc. (“G-I”) entered into the settlement under the Comprehensive Environmental Response, Compensation and Liability Act (“CERCLA”), 42 U.S.C. 9601 et seq.; the Resource Conservation and Recovery Act (“RCRA”), 42 U.S.C. 6901 et seq.; the Clean Air Act, 42 U.S.C. 7401 et seq.; the Federal Water Pollution Control Act (“FWPCA”), 33 U.S.C. 1251 et seq.; and Title 10, Vermont Annotated Statutes §§ 1259, 1274, 6610a, 6615 and 6616. The proposed Decree would resolve the proofs of claim of the United States on behalf of EPA, DOI and NOAA, and the State of Vermont, and would also resolve the Adversary Proceeding United States v. G. Holdings, Inc., Adv. Pro. No. 08-2531 (RG), which seeks injunctive relief against G-I under section 303 of the Clean Air Act, 42 U.S.C. 7603, and section 7003 of RCRA, 42. U.S.C. 6973.

The Decree addresses 13 hazardous waste sites across the country, including the Vermont Asbestos Mine Group Site (“the VAG Site”), in Eden and Lowell, Vermont. Under the terms of the settlement, G-I will establish and fund a Custodial Trust which will take immediate steps to secure the VAG Site by constructing fencing, gates and road barriers, and posting security guards. In addition, the Custodial Trust will conduct air monitoring and dust suppression, if determined to be necessary, and will assist and/or contribute to the off-site investigative and abatement work undertaken by EPA and the State of Vermont, over eight years, at a cost of up to $7.75 million.

The proposed settlement also requires G-I to reimburse EPA for remediation of the VAG Site and off-site locations where waste from the mine may be located up to $300 million paid at 8.6 cents on the dollar. The United States' and Vermont's claims for natural resource damages are resolved through a series of payments over nine years totaling $850,000. The settlement also resolves EPA's claims for past and future response costs and NOAA's claim for natural resource damages at nine Generator Sites for $104,615.

Finally, under the terms of the settlement the United States has up to 10 years to file suit to collect on monetary claims related to three sites in New Jersey and New York, the GAF Chemicals Site, the LCP Chemicals Inc. Superfund Site, and the Diamond Alkali Superfund Site, referred to as the “Linden Sites.” The United States retains the right to seek relief against the reorganized G-I for CERCLA response costs and/or natural resource damages at these three sites, and if G-I is found liable at the Linden Sites after confirmation of G-I's Plan of Reorganization, the claims will be paid at 8.6 cents on the dollar.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to In Re: G-I Holdings, Inc., et al., D.J. Ref. 90-11-3-07425.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $33.50 (25 cents per page reproduction cost) payable to the U.S. Treasury or, if by e-mail or fax, forward a check in that amount to the Consent Decree Library at the stated address.

Maureen Katz,
Assistant Chief, Environmental Enforcement Section, Environment and Natural Resources Division.

[FR Doc. E9-16309 Filed 7-9-09; 8:45 am]

BILLING CODE 4410-15-P